DEPARTMENT OF STATE

[Public Notice: 7184]

Bureau of Consular Affairs; Registration for the Diversity Immigrant (DV-2012) Visa Program

AGENCY: Department of State.

ACTION: Notice.

SUMMARY: This public notice provides information on how to apply for the DV-2012 Program. This notice is issued pursuant to 22 CFR 42.33(b)(3) which implements sections 201(a)(3), 201(e), 203(c) and 204(a)(1)(I) of the Immigration and Nationality Act, as amended, (8 U.S.C. 1151, 1153, and 1154(a)(1)(I)).

Instructions for the 2012 Diversity Immigrant Visa Program (DV-2012)

The congressionally mandated Diversity Immigrant Visa Program is administered on an annual basis by the Department of State and conducted under the terms of Section 203(c) of the Immigration and Nationality Act (INA). Section 131 of the Immigration Act of 1990 (Pub. L. 101-649) amended INA 203 and provides for a class of immigrants known as “diversity immigrants.” Section 203(c) of the INA provides a maximum of 55,000 Diversity Visas (DV) each fiscal year to be made available to persons from countries with low rates of immigration to the United States.

The annual DV program makes permanent residence visas available to persons meeting the simple, but strict, eligibility requirements. A computer-generated random lottery drawing chooses selectees for Diversity Visas. The visas are distributed among six geographic regions with a greater number of visas going to regions with lower rates of immigration, and with no visas going to nationals of countries sending more than 50,000 immigrants to the United States over the period of the past five years. Within each region, no single country may receive more than seven percent of the available Diversity Visas in any one year.

For DV-2012, natives of the following countries are not eligible to apply because the countries sent a total of more than 50,000 immigrants to the United States in the previous five years:

BRAZIL, CANADA, CHINA (mainland-born), COLOMBIA, DOMINICAN REPUBLIC, ECUADOR, EL SALVADOR, GUATEMALA, HAITI, INDIA, JAMAICA, MEXICO, PAKISTAN, PERU, the PHILIPPINES, POLAND, SOUTH KOREA, UNITED KINGDOM (except Northern Ireland) and its dependent territories, and VIETNAM.

Persons born in Hong Kong SAR, Macau SAR and Taiwan are eligible. For DV-2012, no countries have been added or removed from the previous year's list of eligible countries.

The Department of State implemented the electronic registration system beginning with DV-2005 in order to make the Diversity Visa process more efficient and secure. The Department utilizes special technology and other means to identify those who commit fraud for the purposes of illegal immigration or who submit multiple entries.

Diversity Visa Registration Period

Entries for the DV-2012 Diversity Visa Lottery must be submitted electronically between noon, Eastern Daylight Time (EDT) (GMT-4), Tuesday, October 5, 2010, and noon, Eastern Standard Time (EST) (GMT-5) Wednesday, November 3, 2010. Applicants may access the electronic Diversity Visa Entry Form (E-DV) at http://www.dvlottery.state.gov during the registration period. Paper entries will not be accepted. Applicants are strongly encouraged not to wait until the last week of the registration period to enter. Heavy demand may result in Web site delays. No entries will be accepted after noon, EST, on November 3, 2010.

Requirements for Entry

To enter the DV lottery, you must be a native of one of the listed countries. See “List of Countries by Region Whose Natives Qualify.” In most cases this means the country in which you were born. However, there are two other ways you may be able to qualify. First, if you were born in a country whose natives are ineligible but your spouse was born in a country whose natives are eligible; you can claim your spouse's country of birth, provided both you and your spouse are on the selected entry, are issued visas, and enter the United States simultaneously. Second, if you were born in a country whose natives are ineligible, but neither of your parents was born there or resided there at the time of your birth, you may claim nativity in one of your parents' country of birth, if it is a country whose natives qualify for the DV-2012 program.

To enter the lottery, you must meet either the education or work experience requirement of the DV program. You must have either a high school education or its equivalent, defined as successful completion of a 12-year course of elementary and secondary education; OR, two years of work experience within the past five years in an occupation requiring at least two years of training or experience to perform. The U.S. Department of Labor's O*Net OnLine database will be used to determine qualifying work experience. For more information about qualifying work experience, see Frequently Asked Question #13. If you cannot meet either of these requirements, you should NOT submit an entry to the DV program.

Procedures for Submitting an Entry to DV-2012

The Department of State will only accept completed Electronic Diversity Visa (E-DV) Entry Forms submitted electronically at http://www.dvlottery.state.gov during the registration period between noon, Eastern Daylight Time (EDT) (GMT-4), Tuesday, October 5, 2010 and noon, Eastern Standard Time (EST) (GMT-5) Wednesday, November 3, 2010.

All entries by an individual will be disqualified if more than ONE entry for that individual is received, regardless of who submitted the entry. You may prepare and submit your own entry, or have someone submit the entry for you.

A successfully registered entry will result in the display of a confirmation screen containing your name and a unique confirmation number. You may print this confirmation screen for your records using the print function of your Web browser. You will be able to check the status of your DV-2012 entry by returning to the Web site and entering your unique confirmation number and personal information.

Paper entries will not be accepted.

It is very important that all required photographs be submitted. Your entry will be disqualified if all required photographs are not submitted. Recent photographs of the following people must be submitted electronically with the Electronic Diversity Visa Entry Form: You; your spouse; each unmarried child under 21 years of age at the time of your electronic entry, including all natural children as well as all legally-adopted children and stepchildren, even if a child no longer resides with you or you do not intend for a child to immigrate under the DV program. You do not need to submit a photo for a child who is already a U.S. citizen or a Legal Permanent Resident.

Group or family photographs will not be accepted; there must be a separate photograph for each family member. Failure to submit the required photographs for your spouse and each child listed will result in an incomplete entry to the E-DV system. The entry will not be accepted and must be resubmitted. Failure to enter the correct photograph of each individual in the case into the E-DV system will result in disqualification of the principal applicant and refusal of all visas in the case at the time of the visa interview.

A digital photograph (image) of you, your spouse, and each child must be submitted on-line with the E-DV Entry Form. The image file can be produced either by taking a new digital photograph or by scanning a photographic print with a digital scanner.

Entries are subject to disqualification and visa refusal for cases in which the photographs are not recent or have been manipulated or fail to meet the specifications explained below.

Instructions for Submitting a Digital Photograph (Image)

The image file must adhere to the following compositional specifications and technical specifications and can be produced in one of the following ways: taking a new digital image or using a digital scanner to scan a submitted photograph. Entrants may test their photos for suitability through the photo validator link on the e-DV Web site before submitting their entries. The photo validator provides additional technical advice on photo composition along with examples of acceptable and unacceptable photos.

Compositional Specifications

The submitted digital image must conform to the following compositional specifications or the entry will be disqualified: The person being photographed must directly face the camera; the head of the person should not be tilted up, down, or to the side; the head height or facial region size (measured from the top of the head, including the hair, to the bottom of the chin) must be between 50% and 69% of the image's total height. The eye height (measured from the bottom of the image to the level of the eyes) should be between 56% and 69% of the image's height; the photograph should be taken with the person in front of a neutral, light-colored background; dark or patterned backgrounds are not acceptable; the photograph must be in focus; photos in which the person being photographed is wearing sunglasses or other items that detract from the face will not be accepted; photographs of applicants wearing head coverings or hats are only acceptable if the headcovering is worn for religious beliefs, and even then, the head covering may not obscure any portion of the face of the applicant. Photographs of applicants with Tribal or other headgear not specifically religious in nature will not be accepted; photographs of military, airline, or other personnel wearing hats will not be accepted.

Color photographs in 24-bit color depth are required. Photographs may be downloaded from a camera to a file in the computer, or they may be scanned to a file in the computer. If you are using a scanner, the settings must be for True Color or 24-bit color mode. Color photographs must be scanned at this setting for the requirements of the DV program. See the additional scanning requirements below.

Technical Specifications

The submitted digital photograph must conform to the following specifications or the system will automatically reject the E-DV Entry Form and notify the sender.

When taking a new digital image: the image file format must be in the Joint Photographic Experts Group (JPEG) format; it must have a maximum image file size of two hundred forty kilobytes (240 KB); the minimum acceptable image resolution and dimensions are 600 pixels (width) x 600 pixels (height). Image pixel dimensions must be in a square aspect ratio (meaning the height must be equal to the width). The image color depth must be 24-bit color. [Note: Color photographs are required. Black and white, monochrome images (2-bit color depth), 8-bit color or 8-bit grayscale will not be accepted.]

Before a photographic print is scanned it must meet the compositional specifications listed above. If the photographic print meets the print color and compositional specifications, scan the print using the following scanner specifications: Scanner resolution must be at least 300 dots per inch (dpi); the image file format in Joint Photographic Experts Group (JPEG) format; the maximum image file size must be two hundred forty kilobytes (240 KB); the image resolution 600 by 600 pixels; the image color depth 24-bit color. [Note that black and white, monochrome, or grayscale images will not be accepted.]

Information required for the Electronic Entry

There is only one way to enter the DV-2012 lottery. You must submit the DS 5501, the Electronic Diversity Visa Entry Form (E-DV Entry Form), which is accessible only online at http://www.dvlottery.state.gov. Failure to complete the form in its entirety will disqualify the entry. Note: To ensure that the form is completed accurately, the Department of State strongly encourages applicants to complete the application without the assistance of “Visa Consultants,” “Visa Agents,” or other individuals who offer to submit an application on behalf of applicants.

Those who submit the E-DV entry will be asked to include the following information on the E-DV Entry Form.

1. Full Name—Last/Family Name, First Name, Middle name.

2. Date of Birth—Day, Month, Year.

3. Gender—Male or Female.

4. City Where You Were Born.

5. Country Where You Were Born—The name of the country should be that which is currently in use for the place where you were born.

6. Country of Eligibility or Chargeability for the DV Program—Your country of eligibility will normally be the same as your country of birth. Your country of eligibility is not related to where you live. If you were born in a country that is not eligible for the DV program, please review the instructions to see if there is another option for country of chargeability available for you. For additional information on chargeability, please review “Frequently Asked Question #1” of these instructions.

7. Entry Photograph(s)—See the technical information on photograph specifications. Make sure you include photographs of your spouse and all your children, if applicable. See: Frequently Asked Question #3.

8. Mailing Address—In Care Of, Address Line 1, Address Line 2, City/Town, District/Country/Province/State, Postal Code/Zip Code, and Country.

9. Country Where You Live Today

10. Phone Number (Optional)

11. E-Mail Address—provide an e-mail address to which you have direct access rather than using someone else's address or a standard company address. Notifications to those selected in the random lottery are NOT sent by e-mail. Official notifications of selection will be made through Entry Status Check, available from May 1, 2011 on the E-DV Web site http://www.dvlottery.state.gov. Should you receive an e-mail notification or a mailed letter about your E-DV selection, be aware that the notification is not legitimate. It is only after you are selected, and respond to the notification instructions made available to you via Entry Status Check, and processing begins on your case, that you may receive follow-up e-mail communication from the KCC informing you to review Entry Status Check for new information about your application.

12. What is the Highest Level of Education You Have Achieved, as of Today? You must indicate which one of the following represents your own highest level of educational achievement: (1) Primary school only, (2) High school, no degree, (3) High school degree, (4) Vocational school, (5) Some university courses, (6) University degree, (7) Some graduate level courses, (8) Master degree, (9) Some doctorate level courses, and (10) Doctorate degree.

13. Marital Status—Unmarried, Married, Divorced, Widowed, Legally Separated.

14. Number of Children: Entries must include the name, date and place of birth of your spouse and all natural children, as well as all legally-adopted children and stepchildren who are unmarried and under the age of 21 on the date of your electronic entry (do not include children who are already U.S. citizens or Legal Permanent Residents), even if you are no longer legally married to the child's parent, and even if the spouse or child does not currently reside with you and/or will not immigrate with you. Note that married children and children 21 years or older are not eligible for the Diversity Visa; however, U.S. law protects children from “aging out” in certain circumstances. If your electronic DV entry is made before your unmarried child turns 21, and the child turns 21 before visa issuance, he/she may be protected from aging out by the Child Status Protection Act and be treated as though he/she were under 21 for visa-processing purposes. Failure to list all children who are eligible will result in disqualification of the principal applicant and refusal of all visas in the case at the time of the visa interview. See: Frequently Asked Question #11.

15. Spouse Information—Name, Date of Birth, Gender, City/Town of Birth, Country of Birth, and Photograph. Failure to list your spouse will result in disqualification of the principal applicant and refusal of all visas in the case at the time of the visa interview.

16. Children Information—Name, Date of Birth, Gender, City/Town of Birth, Country of Birth, and Photograph: Include all children declared in question #14 above.

Selection of Applicants

The computer will randomly select individuals from among all qualified entries. Starting May 1, 2011, entrants may enter their DV-2012 entry confirmation number into the Entry Status Check available at http://www.dvlottery.state.gov to find out whether their entry was selected or not. The notification information provided on the site will give further instructions for selectees, including information on fees connected with immigration to the United States. Those selected in the random drawing are NOT notified by e-mail. Applicants MUST go to http://www.dvlottery.state.gov to confirm their selection status and to receive further instructions. U.S. embassies and consulates will not be able to provide a list of successful entrants. Successful entrants' spouses and unmarried children under age 21 may also apply for visas to accompany or follow-to-join the principal applicant. DV-2012 visas will be issued between October 1, 2011 and September 30, 2012. Selectees who provide information requested in the notification instructions will be informed of their visa interview appointment through the E-DV Web site's Entry Status Check four to six weeks before the scheduled interviews with U.S. consular officers at overseas posts. Each month, visas will be issued to those applicants who are ready for issuance during that month, visa-number availability permitting. Once all of the 50,000 DV visas have been issued, the program will end. In principle, visa numbers could be finished before September 2012. Selected applicants who wish to receive visas must be prepared to act promptly on their cases.

Processing of entries and issuance of diversity visas to successful individuals and their eligible family members MUST occur by midnight on September 30, 2012. Under no circumstances can Diversity Visas be issued or adjustments approved after this date, nor can family members obtain Diversity Visas to follow-to-join the principal applicant in the United States after this date.

In order to receive a Diversity Visa to immigrate to the United States, those chosen in the random drawing must meet ALL eligibility requirements under U.S. law. These requirements may significantly increase the level of scrutiny required and time necessary for processing for natives of some countries listed in this notice, including, but not limited to, countries identified as State sponsors of terrorism.

Important Notice

No fee is charged for the electronic lottery entry in the annual DV program. The U.S. Government employs no outside consultants or private services to operate the DV program. Any intermediaries or others who offer assistance to prepare DV entries do so without the authority or consent of the U.S. Government. Use of any outside intermediary or assistance to prepare a DV entry is entirely at the entrant's discretion.

A qualified electronic entry submitted directly by an applicant has an equal chance of being randomly selected by the computer at the Kentucky Consular Center, as does a qualified electronic entry received from an outside intermediary on behalf of the applicant. However, receipt of more than one entry per person will disqualify the person from registration, regardless of the source of the entry.

Frequently Asked Questions About E-DV Registration

1. What do the terms “eligibility”, “native” and “chargeability” mean? Are there any situations in which persons who were not born in a qualifying country may apply?

Your country of eligibility will normally be the same as your country of birth. Your country of eligibility is not related to where you live. “Native” ordinarily means someone born in a particular country, regardless of the individual's current country of residence or nationality. For immigration purposes “native” can also mean someone who is entitled to be “charged” to a country other than the one in which he/she was born under the provisions of Section 202(b) of the Immigration and Nationality Act. For example, if you were born in a country that is not eligible for this year's DV program, you may claim chargeability to the country where your derivative spouse was born, but you will not be issued a DV-1 unless your spouse is also eligible for and issued a DV-2, and both of you must enter the United States together with the diversity visas. In a similar manner, a minor dependent child can be “charged” to a parent's country of birth.

Finally, if you were born in a country not eligible to participate in this year's DV program, you can be “charged” to the country of birth of either of your parents as long as neither parent was a resident of the ineligible country at the time of the your birth. In general, people are not considered residents of a country in which they were not born or legally naturalized if they are only visiting the country, studying in the country temporarily, or stationed temporarily in the country for business or professional reasons on behalf of a company or government from a country other than the country in which the applicant was born. If you claim alternate chargeability, you must indicate such information on the E-DV electronic online entry form, in question #6. Please be aware that listing an incorrect country of eligibility or chargeability (i.e., one to which you cannot establish a valid claim) may disqualify your entry.

2. Are there any changes or new requirements in the application procedures for this Diversity Visa registration?

Yes. The registration period for DV-2012 will be 30 days in duration. Photographs must now be scanned at a resolution of at least 300 dots per inch (dpi), rather than the previous 150 dots per inch (dpi). All other requirements for scanning a submitted photograph are the same.

Additionally, the Entry Status Check available on the E-DV Web site http://www.dvlottery.state.gov will be the sole means by which you will be notified of your selection, or that you were not selected. The KCC will not mail you official notification letters, but will instead include notification instructions on how to follow up on your selection and pursue a DV visa application on your confirmation page. Entry Status Check will also be the means by which you are informed of your DV visa interview appointment date. The KCC will not send anyone mailed letters informing them of their interview appointment.

Entry Status Check will be available for DV-2012 beginning May 1, 2011. If you applied for the previous year's DV-2011 program, you may check the status of your entry until the end of June 2011. All other requirements for DV-2012 remain the same.

3. Are signatures and photographs required for each family member, or only for the principal entrant?

Signatures are not required on the Electronic Diversity Visa Entry Form. Recent and individual photographs of you, your spouse and all children under 21 years of age are required. Family or group photographs are not accepted. Refer to information on the photograph requirements located in this notice.

4. Why do natives of certain countries not qualify for the Diversity program?

Diversity Visas are intended to provide an immigration opportunity for persons from countries other than the countries that send large numbers of immigrants to the United States. The law states that no Diversity Visas shall be provided for natives of “high admission” countries. The law defines this to mean countries from which a total of 50,000 persons in the Family-Sponsored and Employment-Based visa categories immigrated to the United States during the period of the previous five years. Each year, the U.S. Citizenship and Immigration Services (USCIS) adds the family and employment immigrant admission figures for the previous five years in order to identify the countries whose natives will be ineligible for the annual diversity lottery. Because there is a separate determination made before each annual E-DV entry period, the list of countries whose natives are not eligible may change from one year to the next.

5. What is the numerical limit for DV-2012?

By law, the U.S. diversity immigration program makes available a maximum of 55,000 permanent residence visas each year to eligible persons. However, the Nicaraguan Adjustment and Central American Relief Act (NACARA) passed by Congress in November 1997 stipulates that beginning as early as DV-1999, and for as long as necessary, up to 5,000 of the 55,000 annually-allocated diversity visas will be made available for use under the NACARA program. The actual reduction of the limit by up to 5,000 diversity visas began with DV-2000 and is likely to remain in effect through the DV-2012 program.

6. What are the regional Diversity Visa (DV) limits for DV-2012?

The U.S. Citizenship and Immigration Services (USCIS) determines the DV regional limits for each year according to a formula specified in Section 203(c) of the Immigration and Nationality Act (INA). Once the USCIS has completed the calculations, the regional visa limits will be announced.

7. When will entries for the DV-2012 program be accepted?

The DV-2012 entry period will run through the registration period listed above. Each year millions of people apply for the program during the registration period. The massive volume of entries creates an enormous amount of work in selecting and processing successful individuals. Holding the entry period from October 5, 2010, until November 3, 2010 will ensure that selectees are notified in a timely manner, and gives both the visa applicants and our embassies and consulates time to prepare and complete cases for visa issuance. You are strongly encouraged to enter early in the registration period. Excessive demand at end of the registration period may slow the system down. No entries whatsoever will be accepted after noon EST Wednesday, November 3, 2010.

8. May persons who are in the United States apply for the program?

Yes, an applicant may be in the United States or in another country, and the entry may be submitted from the United States or from abroad.

9. Is each applicant limited to only one entry during the annual E-DV registration period?

Yes, the law allows only one entry by or for each person during each registration period. Individuals for whom more than one entry is submitted will be disqualified. The Department of State will employ sophisticated technology and other means to identify individuals who submit multiple entries during the registration period. People submitting more than one entry will be disqualified and an electronic record will be permanently maintained by the Department of State. Individuals may apply for the program each year during the regular registration period.

10. May a husband and a wife each submit a separate entry?

Yes, a husband and a wife may each submit one entry if each meets the eligibility requirements. If either is selected, the other is entitled to derivative status.

11. What family members must I include on my E-DV entry?

On your entry you must list your spouse (husband or wife), and all unmarried children under 21 years of age, with the exception of children who are already U.S. citizens or Legal Permanent Residents. You must list your spouse even if you are currently separated from him/her, unless you are legally separated (i.e. there is a written agreement recognized by a court or a court order). If you are legally separated or divorced, you do not need to list your former spouse. You must list ALL your children who are unmarried and under 21 years of age at the time of your initial electronic DV entry, whether they are your natural children, your spouse's children, or children you have formally adopted in accordance with the laws of your country, unless such child is already a U.S. citizen or Legal Permanent Resident. List all children under 21 years of age at the time of your electronic entry even if they no longer reside with you or you do not intend for them to immigrate under the DV program.

The fact that you have listed family members on your entry does not mean that they later must travel with you. They may choose to remain behind. However, if you include an eligible dependent on your visa application forms that you failed to include on your original entry, your case will be disqualified. This only applies to those who were family members at the time the original application was submitted, not those acquired at a later date. Your spouse may still submit a separate entry, even though he or she is listed on your entry, as long as both entries include details on all dependents in your family. See question #10 above.

12. Must I submit my own entry, or may someone act on my behalf?

You may prepare and submit your own entry, or have someone submit the entry for you. Regardless of whether an entry is submitted by the individual directly, or assistance is provided by an attorney, friend, relative, etc., only one entry may be submitted in the name of each person and the entrant remains responsible for insuring that information in the entry is correct and complete. If the entry is selected, the notification letter will be sent only to the mailing address provided on the entry. All entrants, including those not selected, will be able to check the status of their entry through the official DV Web site. Entrants should keep their own confirmation page information so they may independently check the status of their entry.

13. What are the requirements for education or work experience?

The law and regulations require that every entrant must have at least a high school education or its equivalent or have, within the past five years, two years of work experience in an occupation requiring at least two years training or experience. A “high school education or equivalent” is defined as successful completion of a twelve-year course of elementary and secondary education in the United States or successful completion in another country of a formal course of elementary and secondary education comparable to a high school education in the United States. Only formal courses of study meet this requirement; correspondence programs or equivalency certificates (such as the G.E.D.) are not acceptable. Documentary proof of education or work experience must be presented to the consular officer at the time of the visa interview.

What Occupations qualify for the Diversity Visa Program? To determine eligibility based on work experience, definitions from the Department of Labor's (DOL) O*Net Online Database will be used. The O*Net Online Database groups job experience into five “job zones.” While many occupations are listed on the DOL Web site, only certain specified occupations qualify for the Diversity Visa Program. To qualify for a Diversity Visa on the basis of your work experience, you must have, within the past five years, two years of experience in an occupation that is designated as Job Zone 4 or 5, classified in a Specific Vocational Preparation (SVP) range of 7.0 or higher.

How do I find the qualifying occupations on the Department of Labor Web site? Qualifying DV Occupations are shown on the Department of Labor O*Net Online Database. Follow these steps to find out if your occupation qualifies: Select “Find Occupations” and then select a specific “Job Family.” For example, select Architecture and Engineering and click “GO.” Then click on the link for the specific Occupation. Following the same example, click Aerospace Engineers. After selecting a specific Occupation link, select the tab “Job Zone” to find out the designated Job Zone number and Specific Vocational Preparation (SVP) rating range.

14. How will successful entrants be selected?

At the Kentucky Consular Center, all entries received from each region will be individually numbered. After the end of the registration period, a computer will randomly select entries from among all the entries received for each geographic region. Within each region, the first entry randomly selected will be the first case registered; the second entry selected the second registration, etc. All entries received during the registration period will have an equal chance of being selected within each region. Beginning on May 1, 2011 selected entrants will be able to receive further instructions at http://www.dvlottery.state.gov/. The Kentucky Consular Center will continue to process the case until those selected to be visa applicants are instructed to appear for visa interviews at a U.S. consular office or until those qualifying to change status in the United States apply at a domestic USCIS office.

Important Note: Notifications to those selected in the random lottery are not sent by e-mail or mail. Should you receive an e-mail or mail notification about your E-DV selection, be aware that the message is not legitimate. It is only after you are selected, and respond to the notification instructions made available to you via Entry Status Check, and processing begins on your case, that you may receive follow-up e-mail communication from the KCC informing you to review Entry Status Check for new information about your application. The Kentucky Consular Center will not ask you to send money to them by mail or by services such as Western Union.

15. May selectees adjust their status with USCIS?

Yes, provided they are otherwise eligible to adjust status under the terms of Section 245 of the INA, selected individuals who are physically present in the United States may apply to the USCIS for adjustment of status to permanent resident. Applicants must ensure that USCIS can complete action on their cases, including processing of any overseas derivatives, before September 30, 2012, since on that date registrations for the DV-2012 program expire. No visa numbers for the DV-2012 program will be available after midnight on September 30, 2012 under any circumstances.

16. Will entrants who are not selected be informed?

All entrants, including those NOT selected, may check the status of their entry through the E-DV Web site and find out if their entry was or was not selected. Entrants should keep their own confirmation page information from the time of their entry until they may check the status of their entry online. Status information for DV-2012 will be available online beginning May 1, 2011. (Status information for the previous DV lottery, DV-2011, is available online until June 30, 2011.) All official notification letters are sent to the address indicated on the entry within five to seven months from the end of the application period.

17. How many individuals will be selected?

There are 50,000 DV visas available for DV-2012, but more than that number of individuals will be selected. Because it is likely that some of the first 50,000 persons who are selected will not qualify for visas or pursue their cases to visa issuance, more than 50,000 entries will be selected by the Kentucky Consular Center to ensure that all of the available DV visas are issued. However, this also means that there will not be a sufficient number of visas for all those who are initially selected. All applicants who are selected will be informed promptly of their place on the list. Interviews for the DV-2012 program will begin in October 2011. The Kentucky Consular Center will notify selected applicants via the Electronic Diversity Visa Lottery Web site, http://www.dvlottery.state.gov/, four to six weeks before the scheduled interviews with U.S. consular officers at overseas posts. Selectees will only receive e-mail communications from the KCC alerting them that a visa appointment has been scheduled after they have responded to the notification instructions on Entry Status Check. Such e-mails will direct selectees to check their interview appointment details on Entry Status Check and will not contain information on the actual appointment date and time. Each month visas will be issued to those applicants who are ready for issuance during that month, visa number availability permitting. Once all of the 50,000 DV visas have been issued, the program for the year will end. In principle, visa numbers could be finished before September 2012. Selected applicants who wish to receive visas must be prepared to act promptly on their cases. Random selection by the Kentucky Consular Center computer as a selectee does not automatically guarantee that you will receive a visa. You must qualify for the visa as well.

18. Is there a minimum age for applicants to apply for the E-DV program?

There is no minimum age to apply for the program, but the requirement of a high school education or work experience for each principal applicant at the time of application will effectively disqualify most persons who are under age 18.

19. Are there any fees for the E-DV program?

There is no fee for submitting an electronic lottery entry. DV applicants must pay all required visa fees at the time of visa application directly to the consular cashier at the embassy or consulate. Details of required diversity visa and immigration visa application fees will be included with the instructions sent by the Kentucky Consular Center to applicants who are selected.

20. Do DV applicants receive waivers of any grounds of visa ineligibility or receive special processing for a waiver application?

Applicants are subject to all grounds of ineligibility for immigrant visas specified in the Immigration and Nationality Act. There are no special provisions for the waiver of any ground of visa ineligibility aside from those ordinarily provided in the Act, nor is there special processing for waiver requests. Some general waiver provisions for people with close relatives who are American Citizens of Lawful Permanent Resident aliens may be available to DV applicants as well, but the time constraints in the DV program will make it difficult for applicants to benefit from such provisions.

21. May persons who are already registered for an immigrant visa in another category apply for the DV program?

Yes, such persons may apply for the DV program.

22. How long do applicants who are selected remain entitled to apply for visas in the DV category?

Persons selected in the DV-2012 lottery are entitled to apply for visa issuance only during fiscal year 2012, from October 1, 2011, through September 30, 2012. Applicants must obtain the DV visa or adjust status by the end of the fiscal year. There is no carry-over of DV benefits into the next year for persons who are selected but who do not obtain visas by September 30, 2012 (the end of the fiscal year). Also, spouses and children who derive status from a DV-2012 registration can only obtain visas in the DV category between October 2011 and September 2012. Applicants who apply overseas will receive an appointment letter from the Kentucky Consular Center four to six weeks before the scheduled appointment.

23. If an E-DV selectee dies, what happens to the DV case?

The death of an individual selected in the lottery results in automatic revocation of the DV case. Any eligible spouse and/or children are no longer entitled to the DV visa, for that entry.

24. When will E-DV online be available?

Online entry will be available during the registration period beginning at noon EDT (GMT-4) on October 5, 2010 and ending at noon EST (GMT-5) on November 3, 2010.

25. Will I be able to download and save the E-DV entry form to a microsoft word program (or other suitable program) and then fill it out?

No, you will not be able to save the form into another program for completion and submission later. The E-DV Entry Form is a Web form only. This makes it more “universal” than a proprietary word processor format. Additionally, it does require that the information be filled in and submitted while online.

26. If I don't have access to a scanner, can I send photographs to my relative in the United States to scan the photographs, save the photographs to a diskette, and then mail the diskette back to me to apply?

Yes, this can be done as long as the photograph meets the photograph requirements in the instructions and the photograph is electronically submitted with, and at the same time as, the E-DV online entry is submitted. The applicants must already have the scanned photograph file when they submit the entry online. The photograph cannot be submitted separately from the online application. Only one online entry can be submitted for each person. Multiple submissions will disqualify the entry for that person for DV-2012. The entire entry (photograph and application together) can be submitted electronically from the United States or from overseas.

27. Can I save the form online so that I can fill out part and then come back later and complete the remainder?

No, this cannot be done. The E-DV Entry Form is designed to be completed and submitted at one time. However, because the form is in two parts, and because of possible network interruptions and delays, the E-DV system is designed to permit up to sixty (60) minutes between the forms download and when the entry is received at the E-DV Web site. If more than sixty minutes elapse and the entry has not been electronically received, the information already received is discarded. This is done so that there is no possibility that a full entry could accidentally be interpreted as a duplicate of a previous partial entry. The DV-2012 instructions explain clearly and completely what information is required to fill in the form. Thus you can be fully prepared, making sure you have all of the information needed before you start to complete the form online.

28. If the submitted digital images do not conform to the specifications, the procedures state that the system will automatically reject the E-DV entry form and notify the sender. does this mean I will be able re-submit my entry?

Yes, the entry can be resubmitted. Since the entry was automatically rejected, it was not actually considered as submitted to the E-DV Web site. It does not count as a submitted E-DV entry, and no confirmation notice of receipt is sent. If there are problems with the digital photograph sent, because it does not conform to the requirements, it is automatically rejected by the E-DV Web site. However, the amount of time it takes the rejection message to reach the sender is unpredictable given the nature of the Internet. If the problem can be fixed by the applicant, and the Form Part One or Two is re-sent within sixty (60) minutes, there is no problem. Otherwise, the applicant will have to restart the submission process. An applicant can try to submit an application as many times as is necessary until a complete application is received and the confirmation notice sent.

29. Will the electronic confirmation notice that the completed E-DV ENTRY form has been received through the online system be sent immediately after submission?

The response from the E-DV Web site which contains confirmation of the receipt of an acceptable E-DV Entry Form is sent by the E-DV Web site immediately. However, how long it takes the response to reach the sender is unpredictable due to the nature of the Internet. If many minutes have elapsed since pressing the `Submit' button, there is no harm in pressing the `Submit' button a second time. The E-DV system will not be confused by a situation where the `Submit' button is hit a second time, because no confirmation response has been received. An applicant can try to submit an application as many times as is necessary until a complete application is received and the confirmation notice sent. However, once you receive a confirmation notice, do not resubmit your information.

30. How will I know if the notification of selection that I have received is authentic? How can I confirm that I have in fact been chosen in the random DV lottery?

Keep your confirmation page. You will need your confirmation number to access information through the Entry Status Check available on the E-DV Web site http://www.dvlottery.state.gov. Entry Status Check will be the sole means by which DV-2012 entrants are notified of their selection, provided instructions on how to proceed with their application, and notified of their immigrant visa interview appointment date and time.

Status information will be available from May 1, 2011. If you lose your confirmation information, you will not be able to check your DV entry status by yourself, and we will not resend the confirmation page information to you. Only the randomly selected individuals will be given additional instructions on how to pursue their DV visa application. Persons not selected may verify the non-selection of their entry using their confirmation information through the official DV Web site, but they will not receive any additional instructions. We will NOT forward the confirmation page information to you. U.S. Embassies and Consulates will NOT provide a list of those selected to continue the visa process.

Randomly selected entrants will receive notification instructions for the DV visa application process on the selectee confirmation page available through Entry Status Check on the E-DV Web site http://www.dvlottery.state.gov. The instructions say the selected applicants will pay all diversity and immigrant visa fees in person only at the U.S. Embassy or Consulate at the time of the visa application. The consular cashier or consular officer immediately gives the visa applicant a U.S. Government receipt for payment. Selected applicants applying for an immigrant visa at a U.S. Embassy or Consulate should never send money for DV fees through the mail, Western Union, or any other delivery service. Selected applicants who are already present in the United States and who file for adjustment of status will receive separate instructions on how to mail DV fees to a US bank.

The E-DV lottery entries are submitted on the Internet, on the official U.S. Government E-DV Web site at http://www.dvlottery.state.gov. The KCC will not send notification letters to the selected applicants. The KCC, consular offices, or the U.S. Government have never sent e-mails to notify individuals they have been selected, and there are no plans to use e-mail for this purpose for the DV-2012 program. Selectees will only receive e-mail communications from the KCC alerting them that a visa appointment has been scheduled after they have responded to the notification instructions on Entry Status Check. Such e-mails will direct selectees to check their interview appointment details on Entry Status Check and will not contain information on the actual appointment date and time.

The Department of State's Bureau of Consular Affairs advises the public that only Internet sites including the “.gov” domain suffix are official government Web sites. Many other non-governmental Web sites (e.g., using the suffixes “.com” or “.org” or “.net”) provide immigration and visa related information and services. Regardless of the content of non-governmental Web sites, the Department of State does not endorse, recommend, or sponsor any information or material shown at these other Web sites.

Some Web sites may try to mislead customers and members of the public into thinking they are official Web sites and may contact you by e-mail to lure you to their offers. These Web sites may attempt to require you to pay for services such as forms and information about immigration procedures, which are otherwise free on the Department of State Visa Services Web site or through U.S. Embassy Consular Section's Web sites. Additionally, these other Web sites may require you to pay for services you will not receive (such as fees for DV immigration applications and visas). Also, you should be wary of sending any personal information to these Web sites that might be used for identity fraud/theft.

31. How do I report internet fraud or unsolicited e-mail?

If you wish to file a complaint about Internet fraud, please see the econsumer.gov Web site, hosted by the Federal Trade Commission, in cooperation with consumer protection agencies from 17 nations (http://www.econsumer.gov/english/). You may also report fraud to the Federal Bureau of Investigation (FBI) Internet Crime Complaint Center. To file a complaint about unsolicited e-mail, contact the Department of Justice Contact Us page.

32. If I am successful in obtaining a visa through the DV program, will the U.S. government assist with my airfare to the United States, provide assistance to locate housing and employment, provide healthcare, or provide any subsidies until I am fully settled?

No, applicants who obtain a DV visa are not provided any type of assistance such as airfare, housing assistance, or subsidies. If you are selected to apply for a DV visa, before you can be issued a visa, you will be required, before you are issued a visa, to provide evidence that you will not become a public charge in the United States. This evidence may be in the form of a combination of your personal assets, an Affidavit of Support (Form I-134) from a relative or friend residing in the United States, and/or an offer of employment from an employer in the United States.

List of Countries by Region Whose Natives Are Eligible for DV-2012

The lists below show the countries whose natives are eligible for DV-2012, grouped by geographic region. Dependent areas overseas are included within the region of the governing country. The countries whose natives are not eligible for the DV-2012 program were identified by the U.S. Citizenship and Immigration Services (USCIS) according to the formula in Section 203(c) of the Immigration and Nationality Act. The countries whose natives are NOT eligible for this diversity program (because they are the principal source countries of Family-Sponsored and Employment-Based immigration or “high admission” countries) are noted after the respective regional lists.

Africa

Algeria

Angola

Benin

Botswana

Burkina Faso

Burundi

Cameroon

Cape Verde

Central African Republic

Chad

Comoros

Congo

Congo, Democratic Republic of the

Cote D'Ivoire (Ivory Coast)

Djibouti

Egypt

Equatorial Guinea

Eritrea

Ethiopia

Gabon

Gambia, The

Ghana

Guinea

Guinea-Bissau

Kenya

Lesotho

Liberia

Libya

Madagascar

Malawi

Mali

Mauritania

Mauritius

Morocco

Mozambique

Namibia

Niger

Nigeria

Rwanda

Sao Tome and Principe

Senegal

Seychelles

Sierra Leone

Somalia

South Africa

Sudan

Swaziland

Tanzania

Togo

Tunisia

Uganda

Zambia

Zimbabwe

Persons born in the Gaza Strip are chargeable to Egypt.

List of Countries by Region Whose Natives Are Eligible for DV-2012

Asia

Afghanistan

Bahrain

Bangladesh

Bhutan

Brunei

Burma

Cambodia

East Timor

Hong Kong Special Administrative Region

Indonesia

Iran

Iraq

Israel

Japan

Jordan

Kuwait

Laos

Lebanon

Malaysia

Maldives

Mongolia

Nepal

North Korea

Oman

Qatar

Saudi Arabia

Singapore

Sri Lanka

Syria

Taiwan

Thailand

United Arab Emirates

Yemen

Natives of the following Asian countries are not eligible for this year's diversity program: China [mainland-born], India, Pakistan, South Korea, Philippines, and Vietnam. Hong Kong S.A.R and Taiwan do qualify and are listed above. Macau S.A.R. also qualifies and is listed below. Persons born in the areas administered prior to June 1967 by Israel, Jordan and Syria are chargeable, respectively, to Israel, Jordan and Syria.

List of Countries by Region Whose Natives Are Eligible for DV-2012

Europe

Albania

Andorra

Armenia

Austria

Azerbaijan

Belarus

Belgium

Bosnia and Herzegovina

Bulgaria

Croatia

Cyprus

Czech Republic

Denmark (including components and dependent areas overseas)

Estonia

Finland

France (including components and dependent areas overseas)

Georgia

Germany

Greece

Hungary

Iceland

Ireland

Italy

Kazakhstan

Kosovo

Kyrgyzstan

Latvia

Liechtenstein

Lithuania

Luxembourg

Macedonia, the Former Yugoslav Republic

Macau Special Administrative Region

Malta

Moldova

Monaco

Montenegro

Netherlands (including components and dependent areas overseas)

Northern Ireland

Norway

Portugal (including components and dependent areas overseas)

Romania

Russia

San Marino

Serbia

Slovakia

Slovenia

Spain

Sweden

Switzerland

Tajikistan

Turkey

Turkmenistan

Ukraine

Uzbekistan

Vatican City

Natives of the following European countries are not eligible for this year's diversity program: Great Britain and Poland. Great Britain (United Kingdom) includes the following dependent areas: Anguilla, Bermuda, British Virgin Islands, Cayman Islands, Falkland Islands, Gibraltar, Montserrat, Pitcairn, St. Helena, and Turks and Caicos Islands. Note that for purposes of the diversity program only, Northern Ireland is treated separately; Northern Ireland does qualify and is listed among the qualifying areas.

List of Countries by Region Whose Natives Are Eligible for DV-2012

North America

The Bahamas

In North America, natives of Canada and Mexico are not eligible for this year's diversity program.

Oceania

Australia (including components and dependent areas overseas)

Fiji

Kiribati

Marshall Islands

Micronesia, Federated States of

Nauru

New Zealand (including components and dependent areas overseas)

Palau

Papua New Guinea

Samoa

Solomon Islands

Tonga

Tuvalu

Vanuatu

South America, Central America, and the Caribbean

Antigua and Barbuda

Argentina

Barbados

Belize

Bolivia

Chile

Costa Rica

Cuba

Dominica

Grenada

Guyana

Honduras

Nicaragua

Panama

Paraguay

Saint Kitts and Nevis

Saint Lucia

Saint Vincent and the Grenadines

Suriname

Trinidad and Tobago

Uruguay

Venezuela

Countries in this region whose natives are not eligible for this year's diversity program: Brazil, Colombia, Dominican Republic, Ecuador, El Salvador, Guatemala, Haiti, Jamaica, Mexico, and Peru.

Dated: September 24, 2010.
Janice Jacobs,
Assistant Secretary for Consular Affairs, Department of State.

[FR Doc. 2010-24688 Filed 9-30-10; 8:45 am]

BILLING CODE 4710-06-P